DEPARTMENT OF ENERGY

[OE Docket No. PP-369]

Application to Rescind Presidential Permit; Joint Application for Presidential Permit; British Columbia Transmission Corporation and British Columbia Hydro and Power Authority

AGENCY: Office of Electricity Delivery and Energy Reliability, DOE.

ACTION: Notice of Application.

SUMMARY: British Columbia Transmission Corporation (BCTC) and British Columbia Hydro and Power Authority (BC Hydro) filed a joint application to voluntarily transfer the BCTC facilities authorized by Presidential Permit No. PP-22, as amended, to BC Hydro. The application requested that the Department of Energy (DOE) rescind the Presidential permit held by BCTC and simultaneously issue a new permit to BC Hydro covering the same international transmission facilities.

DATES: Comments, protests, or requests to intervene must be submitted on or before September 7, 2010.

ADDRESSES: Comments, protests, or requests to intervene should be addressed as follows: Office of Electricity Delivery and Energy Reliability (OE-20), U.S. Department of Energy, 1000 Independence Avenue, SW., Washington, DC 20585.

FOR FURTHER INFORMATION CONTACT: Christopher Lawrence (Program Office) at 202-586-5260, or by e-mail to Christopher.Lawrence@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with DOE regulations at 10 CFR 205.323, the existing permit holder and the transferee are required to file a joint application with DOE that includes a statement of reasons for the transfer.

On June 23, 2010, BCTC and BC Hydro (collectively the “Applicants”) jointly filed an application with DOE requesting that Presidential Permit No. PP-22, as amended, issued to BCTC be rescinded and that a new Presidential permit be issued simultaneously to BC Hydro for the same international transmission facilities. The international transmission facilities authorized by Presidential Permit No. PP-22, as amended, include seven single conductor 132 kilovolt (kV) submarine cables and three single conductor 260 kV DC submarine cables. These cables do not connect to any U.S. electrical facility, but rather connect to the mainland of British Columbia, Canada and Vancouver Island. They do, however, pass through the United States territorial waters in the Strait of Georgia.

The Applicants requested that the issuance of the new permit be made effective as of July 5, 2010, to coincide with the date that BCTC was to be integrated into BC Hydro by operation of law pursuant to British Columbia's Clean Energy Act.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in the Federal Energy Regulatory Commission Order No. 888 (Promoting Wholesale Competition Through Open Access Non-Discriminatory Transmission Services by Public utilities; FERC Stats. & Regs. ¶31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. In that proceeding, DOE determined that the international transmission lines authorized by the Presidential permit currently held by BCTC are not appropriate for third party transmission, because the lines are not connected to the U.S. domestic electric power system. Therefore, a requirement to provide non-discriminatory open access transmission service will not be added to the permit being issued to BC Hydro.

Procedural Matters: Any person desiring to become a party to this proceeding or to be heard by filing comments or protests to this application should file a petition to intervene, comment or protest at the address provided above in accordance with § 385.211 or 385.214 of the Federal Energy Regulatory Commission's (FERC) Rules of Practice and Procedures (18 CFR 385.211, 385.214). Fifteen copies of each comment, petition and protest should be filed with DOE on or before the date listed above.

Additional copies of such petitions to intervene or protests also should be filed directly with: Glenn S. Benson, Perkins, Coie, LLP, 607 Fourteenth Street, NW., Washington, DC 20005 AND Joanna Sofield, Chief Regulatory Officer, BC Hydro, 333 Dunsmuir Street, 16th Floor, Vancouver British Columbia V6B 5R3.

Before a Presidential permit may be granted or amended, DOE must determine that the proposed action will not adversely impact on the reliability of the U.S. electric power supply system. In addition, DOE must consider the environmental impacts of the proposed action (i.e., granting the Presidential permit or amendment, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://www.oe.energy.gov/permits/permits_pending.htm. Upon reaching the home page, select “Pending Applications.”

Issued in Washington, DC, on August 2, 2010.
Anthony J. Como,
Director, Permitting and Siting Office of Electricity Delivery and Energy Reliability.

[FR Doc. 2010-19403 Filed 8-5-10; 8:45 am]

BILLING CODE 6450-01-P